COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) to the Procurement List that will be furnished by nonprofit agencies employing persons who are blind or have other severe disabilities, and deletes product(s) and service(s) from the Procurement List previously furnished by such agencies.

DATES: Date added to and deleted from the Procurement List: September 24, 2023.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 7/21/2023, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

7930-01-690-9999—Cleaner, Glass, Biobased, Concentrate

7930-01-691-0002—Cleaner, Glass, Biobased, Ready-To-Use

7930-01-687-2546—Detergent, General Purpose, Cleaner/Degreaser, Biodegradable, Concentrated

Designated Source of Supply: Lighthouse for the Blind and Visually Impaired, San Francisco, CA

Contracting Activity: FEDERAL ACQUISITION SERVICE, GSA/FSS GREATER SOUTHWEST ACQUISITI

Distribution: A-List

Mandatory for: Total Government Requirement

Deletions

On 7/21/2023, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

8415-00-245-2065—Jersey, Reversible, US Navy, Blue and Yellow, Large

8415-00-245-2054—Jersey, Reversible, US Navy, Blue and Yellow, Medium

8415-00-245-2052—Jersey, Reversible, US Navy, Blue and Yellow, Small

8415-00-245-2073—Jersey, Reversible, US Navy, Blue and Yellow, X- Large

8415-00-914-0313—Jersey, Flight Deck Crewman's, Blue, Medium

8415-00-914-0312—Jersey, Flight Deck Crewman's, Blue, Small

8415-00-914-0314—Jersey, Flight Deck Crewman's, USN, Blue, Large

8415-00-914-0315—Jersey, Flight Deck Crewman's, USN, Blue, X-Large

8415-00-914-0318—Jersey, Flight Deck Crewman's, USN, Brown, Large

8415-00-914-0317—Jersey, Flight Deck Crewman's, USN, Brown, Medium

8415-00-914-0316—Jersey, Flight Deck Crewman's, USN, Brown, Small

8415-00-914-0319—Jersey, Flight Deck Crewman's, USN, Brown, X-Large

8415-00-914-0323—Jersey, Flight Deck Crewman's, USN, Green, Large

8415-00-914-0322—Jersey, Flight Deck Crewman's, USN, Green, Medium

8415-00-914-0321—Jersey, Flight Deck Crewman's, USN, Green, Small

8415-00-914-0324—Jersey, Flight Deck Crewman's, USN, Green, X-Large

8415-00-914-0327—Jersey, Flight Deck Crewman's, USN, Purple, Large

8415-00-914-0326—Jersey, Flight Deck Crewman's, USN, Purple, Medium

8415-00-914-0325—Jersey, Flight Deck Crewman's, USN, Purple, Small

8415-00-914-0328—Jersey, Flight Deck Crewman's, USN, Purple, X-Large

8415-00-914-0331—Jersey, Flight Deck Crewman's, USN, Red, Large

8415-00-914-9481—Jersey, Flight Deck Crewman's, USN, Red, Medium

8415-00-914-0329—Jersey, Flight Deck Crewman's, USN, Red, Small

8415-00-914-4143—Jersey, Flight Deck Crewman's, USN, Red, X-Large

8415-00-914-0335—Jersey, Flight Deck Crewman's, USN, White, Large

8415-00-914-0334—Jersey, Flight Deck Crewman's, USN, White, Medium

8415-00-914-0333—Jersey, Flight Deck Crewman's, USN, White, Small

8415-00-914-0336—Jersey, Flight Deck Crewman's, USN, White, X-Large

8415-00-914-0339—Jersey, Flight Deck Crewman's, USN, Yellow, Large

8415-00-914-0338—Jersey, Flight Deck Crewman's, USN, Yellow, Medium

8415-00-914-0337—Jersey, Flight Deck Crewman's, USN, Yellow, Small

8415-00-914-0340—Jersey, Flight Deck Crewman's, USN, Yellow, X-Large

Designated Source of Supply: The Arkansas Lighthouse for the Blind, Little Rock, AR

Designated Source of Supply: Winston-Salem Industries for the Blind, Inc, Winston-Salem, NC

Designated Source of Supply: Industries of the Blind, Inc., Greensboro, NC

Designated Source of Supply: Westmoreland County Association, Greensburg, PA

Contracting Activity: DLA TROOP SUPPORT, PHILADELPHIA, PA

NSN(s)—Product Name(s):

7530-00-985-7097—Folder, File, Reinforced, ⅓″ Cut, 11 pt., Natural Kraft, 11¾″ x 9¼″

7530-00-02R-1357—Label, Pressure Sensitive

Designated Source of Supply: CLOVERNOOK CENTER FOR THE BLIND AND VISUALLY IMPAIRED, Cincinnati, OH

Contracting Activity: STRATEGIC ACQUISITION CENTER, FREDERICKSBURG, VA

Service(s)

Service Type: Custodial and Related Services

Mandatory for: GSA PBS Region 5, Federal Building, 105 South Sixth Street Mt. Vernon, IL

Designated Source of Supply: Jefferson County Comprehensive Services, Inc., Mt. Vernon, IL

Contracting Activity: PUBLIC BUILDINGS SERVICE, PBS R5

Michael R. Jurkowski,
Acting Director, Business Operations.

[FR Doc. 2023-18355 Filed 8-24-23; 8:45 am]

BILLING CODE 6353-01-P